ENVIRONMENTAL PROTECTION AGENCY

[FRL-7450-7]

Notice of Proposed Prospective Purchaser Agreement Pursuant to the Comprehensive Environmental Response, Compensation, and Liability Act of 1980, as Amended, Ithaca Gun Company Superfund Site

AGENCY: Environmental Protection Agency.

ACTION: Notice; request for public comment.

SUMMARY: Notification is hereby given that a Prospective Purchaser Agreement (“PPA”) associated with the Ithaca Gun Company Superfund Site (“Site”) located in Ithaca, New York was executed by the Environmental Protection Agency (“EPA”) and the United States Department of Justice. This Agreement is subject to final approval after the comment period. The PPA would resolve certain potential EPA claims under Sections 106 and 107 of the Comprehensive Environmental Response, Compensation, and Liability Act of 1980, as amended (“CERCLA”), 42 U.S.C. 9606 and 9607, against Fall Creek Redevelopment, L.L.C., the prospective purchaser.

The settlement would require the purchaser to pay $50,000 to EPA. The purchaser intends to use a parcel of land that is part of the Site property to create a commercial/residential development in the Ithaca Falls area in the City of Ithaca, New York. That property, and adjoining Site property which is expected to be dedicated as parkland by the City of Ithaca, are currently subject to an EPA response action under CERCLA for the removal of lead-contaminated soils. The purchaser has agreed to provide EPA with an irrevocable right of access to the Site, to conduct all business in compliance with all applicable local, State, and federal laws and regulations, and to exercise due care at the Site. The purchaser will record a notice with the County Clerk's Office that the property is part of the Site subject to the EPA removal action.

For thirty (30) days following the date of publication of this document, the Agency will receive written comments relating to the proposed settlement. The Agency's response to any comments received will be available for public inspection at the U.S. Environmental Protection Agency, Region II, 290 Broadway, New York, New York 10007-1866.

Availability: The proposed settlement is available for public inspection at the U.S. Environmental Protection Agency, Region II, 290 Broadway, New York, New York 10007-1866. A copy of the proposed Agreement may be obtained from George A. Shanahan, Assistant Regional Counsel, U.S. Environmental Protection Agency, Region II, 290 Broadway, New York, New York 10007-1866. Comments should reference the “Ithaca Gun Superfund Site Prospective Purchaser Agreement” and should be forwarded to Mr. Shanahan, at the above address.

FOR FURTHER INFORMATION CONTACT: George A. Shanahan, Assistant Regional Counsel, U.S. Environmental Protection Agency, Region II, 290 Broadway, New York, New York 10007-1866 or at (212) 637-3171.

Dated: January 29, 2003.
William J. Muszynski,
P.E., Deputy Regional Administrator, EPA Region 2.

[FR Doc. 03-3415 Filed 2-10-03; 8:45 am]

BILLING CODE 6560-50-P